DEPARTMENT OF DEFENSE

Department of the Army

Availability for Non-Exclusive, Exclusive, or Partially Exclusive Licensing of Invention Described in U.S. Provisional Patent Application Concerning Treatment of Ischemia-Reperfusion Injury with Lipid, Annexin, and Lipid-Annexin Complexes

AGENCY: Department of the Army, DoD.

ACTION: Notice.

SUMMARY: In accordance with 37 CFR 404.4, 404.6 and 404.7, announcement is made of the availability for licensing of the invention described in U.S. Provisional Patent Application No. 60/786,527 entitled “Treatment of Ischemia-Reperfusion Injury with Lipid, Annexin, and Lipid-Annexin Complexes,” filed March 27, 2006. Foreign rights are also available (PCT/US2007/065125). The United States Government, as represented by the Secretary of the Army, has rights in this invention.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Disclosed are lipids, annexin, and lipid-annexin complexes for use in the prevention and/or treatment of ischemia-reperfusion injury and reperfusion injury associated with a variety of diseases and conditions. Also disclosed are therapeutic targets and compositions for the prevention and treatment of ischemia-reperfusion injury and diseases and conditions associated with ischemia-reperfusion injury.

Brenda S. Bowen,
Army Federal Register Liaison Officer.

[FR Doc. E8-2980 Filed 2-15-08; 8:45 am]

BILLING CODE 3710-08-P